DEPARTMENT OF LABOR

Occupational Safety and Health Administration

29 CFR Part 1910

Occupational Safety and Health Standards

CFR Correction

In Title 29 of the Code of Federal Regulations, Parts 1900 to § 1910.999, revised as of July 1, 2015, on page 243, in § 1910.106, paragraph (a)(14) introductory text is reinstated to read as follows:

§ 1910.106 Flammable liquids.

* * * * *

(14) Flashpoint means the minimum temperature at which a liquid gives off vapor within a test vessel in sufficient concentration to form an ignitable mixture with air near the surface of the liquid, and shall be determined as follows:

* * * * *

[FR Doc. 2016-04434 Filed 2-29-16; 8:45 am]

BILLING CODE 1505-01-D